DEPARTMENT OF TRANSPORTATION

Federal Aviation Administration

14 CFR Part 39

[Docket No. 2001-NM-314-AD]

RIN 2120-AA64

Airworthiness Directives; Airbus Model A300 B4-600, B4-600R, and F4-600R (Collectively Called A300-600) Series Airplanes, and Airbus Model A310 Series Airplanes

AGENCY: Federal Aviation Administration, DOT.

ACTION: Notice of proposed rulemaking (NPRM).

SUMMARY: This document proposes the adoption of a new airworthiness directive (AD) that is applicable to certain Airbus Model A300 B4-600, B4-600R, and F4-600R (collectively called A300-600) series airplanes, and Airbus Model A310 series airplanes. This proposal would require replacement of Honeywell inertial reference units (IRU) with new or modified Honeywell IRUs. For certain airplanes, this proposal also would require replacement of Litton IRUs, mode selector units (MSU), and inertial sensor display unit (ISDU) with new Honeywell IRUs, MSUs, and a new ISDU. This action is necessary to prevent loss of positioning data and a display of incorrect attitude data, which could compromise the ability of the flightcrew to maintain the safe flight and landing of the airplane. This action is intended to address the identified unsafe condition.

DATES: Comments must be received by June 30, 2003.

ADDRESSES: Submit comments in triplicate to the Federal Aviation Administration (FAA), Transport Airplane Directorate, ANM-114, Attention: Rules Docket No. 2001-NM-314-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-314-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-314-AD.” The postcard will be date stamped and returned to the commenter.

Availability of NPRMs

Any person may obtain a copy of this NPRM by submitting a request to the FAA, Transport Airplane Directorate, ANM-114, Attention: Rules Docket No. 2001-NM-314-AD, 1601 Lind Avenue, SW., Renton, Washington 98055-4056.

Discussion

The Direction Générale de l'Aviation Civile (DGAC), which is the airworthiness authority for France, notified the FAA that an unsafe condition may exist on certain Airbus Model A300 B4-600, B4-600R, and F4-600R (collectively called A300-600) series airplanes, and Airbus Model A310 series airplanes, equipped with certain Honeywell Inertial Reference Units (IRU). The DGAC advises that an operator reported the loss of positioning data and the display of incorrect attitude data shortly after take-off because the airplane was moved on the ground before the IRU alignment procedure had been completed. This condition, if not corrected, could result in loss of positioning data and a display of incorrect attitude data, which could compromise the ability of the flightcrew to maintain the safe flight and landing of the airplane.

Explanation of Relevant Service Information

Airbus has issued Service Bulletin A300-34-6135, Revision 01 (for Model A300-600 series airplanes); and Service Bulletin A310-34-2158, Revision 01 (for Model A310 series airplanes); both dated September 10, 2001. These service bulletins describe procedures for replacement of Honeywell IRUs with new or modified Honeywell IRUs.

The service bulletins reference Honeywell Service Bulletin HG1050BD-34-0009, dated April 17, 2001; and Honeywell Service Bulletin HG1050BD-34-0010, Revision 001, dated April 16, 2001; as additional sources of service information for accomplishing the replacement of Honeywell IRUs required by this AD.

For certain Model A300-600 series airplanes, Airbus Service Bulletin A300-34-6135 recommends prior or concurrent accomplishment of Airbus Service Bulletin A300-34-6082, Revision 05, dated February 13, 1998. Service Bulletin A300-34-6082 describes procedures for replacing Litton IRUs, mode selector units (MSU), and inertial sensor display unit (ISDU) with new Honeywell IRUs, MSUs, and a new ISDU.

For a certain Model A310 series airplane, Airbus Service Bulletin A310-34-2158 recommends prior or concurrent accomplishment of Airbus Service Bulletin A310-34-2104, dated May 12, 1995. Service Bulletin A310-34-2104 describes procedures for replacing Litton IRUs, MSUs, and the ISDU unit with new Honeywell IRUs, MSUs, and a new ISDU.

Accomplishment of the actions specified in the Airbus service bulletins is intended to adequately address the identified unsafe condition. The DGAC classified the Airbus service bulletins as mandatory and issued French airworthiness directive 2001-303(B), dated July 25, 2001, in order to assure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletins described previously.

Cost Impact

The FAA estimates that 89 Airbus Model A300-600 series airplanes of U.S. registry would be affected by this proposed AD, that it would take approximately 3 work hours per airplane to accomplish the proposed replacement of Honeywell IRUs with new or modified Honeywell IRUs, and that the average labor rate is $60 per work hour. Required parts would cost approximately $1,000 per airplane. Based on these figures, the cost impact of the proposed AD on U.S. operators is estimated to be $105,020, or $1,180 per airplane.

The FAA estimates that 47 Airbus Model A310 series airplanes of U.S. registry would be affected by this proposed AD, that it would take approximately 3 work hours per airplane to accomplish the proposed replacement of Honeywell IRUs with new or modified Honeywell IRUs, and that the average labor rate is $60 per work hour. Required parts would cost approximately $1,000 per airplane. Based on these figures, the cost impact of the proposed AD on U.S. operators is estimated to be $55,460, or $1,180 per airplane.

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2001-NM-314-AD.

Applicability: The series airplanes, certificated in any category, listed in the following table:

Table—Applicability
Model— | Equipped with Honeywell ineritial reference units having part number— | Excluding airplanes modified in accordance with—
A300 B4-600, A300 B4-600R, and A300 F4-600R (collectively called A300-600); and A310 | HG1050BD02 or HG1050BD05 | Airbus Modification 12304 in production; or Airbus Service Bulletin A300-34-6135, Revision 01, dated September 10, 2001 (for Model A300-600 series airplanes) or Airbus Service Bulletin A310-34-2158, Revision 01, dated September 10, 2001 (for Model A310 series airplanes); as applicable.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

To prevent loss of positioning data and a display of incorrect attitude data to the flightcrew, which could compromise the ability of the flightcrew to maintain the safe flight and landing of the airplane, accomplish the following:

Replacement of Inertial Reference Units (IRU)

(a) Within 35 months after the effective date of this AD: Replace the existing Honeywell IRUs with new or modified Honeywell IRUs, per the Accomplishment Instructions specified in Airbus Service Bulletin A300-34-6135, Revision 01 (for Model A300 B4-600, A300 B4-600R, and A300 F4-600R (collectively called A300-600 series airplanes)); or Service Bulletin A310-34-2158, Revision 01 (for Model A310 series airplanes); both dated September 10, 2001; as applicable.

(b) Accomplishment of the replacement specified in Airbus Service Bulletin A300-34-6135 (for Model A300-600 series airplanes); or Service Bulletin A310-34-2158 (for Model A310 series airplanes); both dated March 9, 2001; as applicable; is acceptable for compliance with the replacement requirement of paragraph (a) of this AD.

Note 2: Airbus Service Bulletin A300-34-6135, Revision 01; and Airbus Service Bulletin A310-34-2158, Revision 01; both dated September 10, 2001; reference Honeywell Service Bulletin HG1050BD-34-0009, dated April 17, 2001; and Honeywell Service Bulletin HG1050BD-34-0010, Revision 001, dated April 16, 2001; as additional sources of service information for accomplishing the replacements required by this AD.

For Model A300-600 Series Airplanes: Before or Concurrent Requirements

(c) For Model A300-600 series airplanes with manufacturer's serial numbers 0284, 0294, 0301, 0307, 0312, 0317, 0321, 0336, 0341, 0348, 0351, 0555, 0559, 0625, 0677, 0743, 0744, and 0749: Before or concurrently with the requirements of paragraph (a) of this AD, replace the Litton IRUs, mode selector units (MSU), and inertial sensor display unit (ISDU) with new Honeywell IRUs, MSUs, and a new ISDU, per Airbus Service Bulletin A300-34-6082, Revision 05, dated February 13, 1998. If this service bulletin is being performed concurrently with the requirements of paragraph (a) of this AD, the new or modified Honeywell IRUs required by paragraph (a) of this AD should be installed in lieu of the Honeywell part numbers listed in Revision 05 of Airbus Service Bulletin A300-34-6082.

For Model A310 Series Airplanes: Before or Concurrent Requirements

(d) For the Model A310 airplane with manufacturer's serial number 0172: Before or concurrently with the requirements of paragraph (a) of this AD, replace the Litton IRUs, MSUs, and ISDU with new Honeywell IRUs, MSUs, and a new ISDU, per Airbus Service Bulletin A310-34-2104, dated May 12, 1995.

Parts Installation

(e) As of the effective date of this AD, no person shall install, on any airplane, any part listed in paragraphs (e)(1), (e)(2), or (e)(3) of this AD; as applicable:

(1) For Model A300-600 series airplanes and Model A310 series airplanes: Honeywell IRUs having part number HG1050BD02 or HG1050BD05.

(2) For Model A300-600 airplanes listed in paragraph (c) of this AD: Litton IRUs, MSUs, or ISDU having a part number identified in paragraph 3.A. of Airbus Service Bulletin A300-34-6082, Revision 5, dated February 13, 1998.

(3) For Model A310 airplane listed in paragraph (d) of this AD: Litton IRUs having part number 4618000200-2201 or 461800-02-102; MSUs having part number 461630-02; and an ISDU having part number 461640-08-03.

Alternative Methods of Compliance

(f) An alternative method of compliance or adjustment of the compliance time that provides an acceptable level of safety may be used if approved by the Manager, International Branch, ANM-116, Transport Airplane Directorate, FAA. Operators shall submit their requests through an appropriate FAA Principal Avionics Inspector, who may add comments and then send it to the Manager, International Branch, ANM-116.

Note 3: Information concerning the existence of approved alternative methods of compliance with this AD, if any, may be obtained from the International Branch, ANM-116.

Special Flight Permits

(g) Special flight permits may be issued in accordance with sections 21.197 and 21.199 of the Federal Aviation Regulations (14 CFR 21.197 and 21.199) to operate the airplane to a location where the requirements of this AD can be accomplished.

Note 4: The subject of this AD is addressed in French airworthiness directive 2001-303(B), dated July 25, 2001.

Issued in Renton, Washington, on May 22, 2003.
Vi L. Lipski,
Manager, Transport Airplane Directorate, Aircraft Certification Service.

[FR Doc. 03-13387 Filed 5-28-03; 8:45 am]

BILLING CODE 4910-13-P